COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products to the Procurement List that will be furnished by nonprofit agencies employing persons who are blind or have other severe disabilities.

Comments Must Be Received On or Before: 12/27/2012.

ADDRESSES: Committee for Purchase From People Who Are Blind or Severely Disabled, Jefferson Plaza 2, Suite 10800, 1421 Jefferson Davis Highway, Arlington, Virginia 22202-3259.

For Further Information or to Submit Comments Contact: Patricia Briscoe, Telephone: (703) 603-7740, Fax: (703) 603-0655, or email CMTEFedReg@AbilityOne.gov.

SUPPLEMENTARY INFORMATION: This notice is published pursuant to 41 USC 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

November 20, 2012

Group 3, 4, 5 Spices

NSN: 8950-01-E60-9321—Spice, Pepper, White, Ground, 6/18 oz. Containers.

NSN: 8950-01-E61-0660—Spice, Oregano, Ground, 6/12 oz. Containers.

NSN: 8950-01-E62-0111—Spice, Cumin, Ground, 6/16 oz. Containers.

NSN: 8950-01-E62-0148—Spice, Bay Leaf, Whole, ⅜ oz. Containers.

NPA: CDS Monarch, Webster, NY.

Contracting Activity: Defense Logistics Agency Troop Support, Philadelphia, PA.

Coverage: C-List for 100% of the requirement of the Department of Defense, as aggregated by the Defense Logistics Agency Troop Support, Philadelphia, PA.

NSN: 6135-01-414-8831—Battery, Non-Rechargeable, 3V, Lithium/Manganese Dioxide.

NSN: 6135-01-447-0949—Battery, Non-Rechargeable, 9V, Alkaline.

NSN: 6135-01-524-7621—Battery, 3.6V, A, Lithium.

NSN: 6140-01-032-1326—Battery, Storage, 12V, Lead Acid, Wet Charged.

NSN: 6140-01-505-1940—Battery, Storage, 12V, Lead Acid, Wet Charged.

NSN: 6140-01-528-2975—Battery, Storage, 12V, Lead Acid, Wet Charged.

NPA: Eastern Carolina Vocational Center, Inc., Greenville, NC.

Contracting Activity: Defense Logistics Agency Land and Maritime, Columbus, OH.

Coverage: C-List for 100% of the requirement of the Department of Defense, as aggregated by the Defense Logistics Agency Land and Maritime, Columbus, OH.

Patricia Briscoe,
Deputy Director, Business Operations (Pricing and Information Management).

[FR Doc. 2012-28688 Filed 11-26-12; 8:45 am]

BILLING CODE 6353-01-P